DEPARTMENT OF ENERGY

Federal Energy Regulatory Commission

Combined Notice of Filings

Take notice that the Commission has received the following Natural Gas Pipeline Rate and Refund Report filings:

Filings Instituting Proceedings

Docket Numbers: RP22-598-000.

Applicants: Millennium Pipeline Company, LLC.

Description: § 4(d) Rate Filing: Negotiated & Non-Conforming Svc Agmts—Anchor Shippers to be effective 4/1/2022.

Filed Date: 2/25/22.

Accession Number: 20220225-5078.

Comment Date: 5 p.m. ET 3/9/22.

Docket Numbers: RP22-599-000.

Applicants: Tennessee Gas Pipeline Company, L.L.C.

Description: § 4(d) Rate Filing: TGP 2022 Fuel Tracker Filing Docket No RP22-____ to be effective 4/1/2022.

Filed Date: 2/25/22.

Accession Number: 20220225-5117.

Comment Date: 5 p.m. ET 3/9/22.

Docket Numbers: RP22-600-000.

Applicants: Colorado Interstate Gas Company, L.L.C.

Description: § 4(d) Rate Filing: Quarterly LU Update Filing to be effective 4/1/2022.

Filed Date: 2/25/22.

Accession Number: 20220225-5129.

Comment Date: 5 p.m. ET 3/9/22.

Docket Numbers: RP22-601-000.

Applicants: Rockies Express Pipeline LLC.

Description: § 4(d) Rate Filing: REX 2022-02-28 Negotiated Rate Agreements to be effective 3/1/2022.

Filed Date: 2/28/22.

Accession Number: 20220228-5046.

Comment Date: 5 p.m. ET 3/14/22.

Docket Numbers: RP22-602-000.

Applicants: Eastern Gas Transmission and Storage, Inc.

Description: § 4(d) Rate Filing: EGTS—February 28, 2022 Nonconforming Service Agreements to be effective 4/1/2022.

Filed Date: 2/28/22.

Accession Number: 20220228-5049.

Comment Date: 5 p.m. ET 3/14/22.

Docket Numbers: RP22-603-000.

Applicants: Gulf South Pipeline Company, LLC.

Description: § 4(d) Rate Filing: Cap Rel Neg Rate Agmt (FPL 41619 to Eco-Energy 54836) to be effective 3/1/2022.

Filed Date: 2/28/22.

Accession Number: 20220228-5054.

Comment Date: 5 p.m. ET 3/14/22.

Docket Numbers: RP22-604-000.

Applicants: Gulf South Pipeline Company, LLC.

Description: § 4(d) Rate Filing: Cap Rel Neg Rate Agmts (Marathon releases eff 3-1-2022) to be effective 3/1/2022.

Filed Date: 2/28/22.

Accession Number: 20220228-5055.

Comment Date: 5 p.m. ET 3/14/22.

Docket Numbers: RP22-605-000.

Applicants: Gulf South Pipeline Company, LLC.

Description: § 4(d) Rate Filing: Cap Rel Neg Rate Agmt (Constellation 54852 to Constellation 54881) to be effective 3/1/2022.

Filed Date: 2/28/22.

Accession Number: 20220228-5056.

Comment Date: 5 p.m. ET 3/14/22.

Docket Numbers: RP22-606-000.

Applicants: Vector Pipeline L.P.

Description: § 4(d) Rate Filing: Tariff Clean-Up Filing (2022) to be effective 4/1/2022.

Filed Date: 2/28/22.

Accession Number: 20220228-5057.

Comment Date: 5 p.m. ET 3/14/22.

Docket Numbers: RP22-607-000.

Applicants: Cove Point LNG, LP.

Description: § 4(d) Rate Filing: Cove Point—2022 Annual EPCA to be effective 4/1/2022.

Filed Date: 2/28/22.

Accession Number: 20220228-5063.

Comment Date: 5 p.m. ET 3/14/22.

Docket Numbers: RP22-608-000.

Applicants: Cove Point LNG, LP.

Description: § 4(d) Rate Filing: Cove Point—2022 Annual Fuel Retainage and Request for Waiver to be effective 4/1/2022.

Filed Date: 2/28/22.

Accession Number: 20220228-5075.

Comment Date: 5 p.m. ET 3/14/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-1187-004.

Applicants: Eastern Gas Transmission and Storage, Inc.

Description: Compliance filing: EGTS—February 28, 2022 Rate Case Compliance Filing to be effective 11/1/2021.

Filed Date: 2/28/22.

Accession Number: 20220228-5035.

Comment Date: 5 p.m. ET 3/14/22.

Docket Numbers: RP22-579-000.

Applicants: Stagecoach Pipeline & Storage Company LLC.

Description: Report Filing: Stagecoach Pipeline & Storage Company LLC Informational Filing to be effective N/A.

Filed Date: 2/25/22.

Accession Number: 20220225-5142.

Comment Date: 5 p.m. ET 3/9/22.

Docket Numbers: RP22-581-000.

Applicants: Arlington Storage Company, LLC.

Description: Report Filing: Arlington Storage Company, LLC Informational Filing to be effective N/A.

Filed Date: 2/25/22.

Accession Number: 20220225-5145.

Comment Date: 5 p.m. ET 3/9/22.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

Dated: February 28, 2022.
Debbie-Anne A. Reese,
Deputy Secretary.

[FR Doc. 2022-04602 Filed 3-3-22; 8:45 am]

BILLING CODE 6717-01-P